DEPARTMENT OF TRANSPORTATION

Federal Aviation Administration

14 CFR Part 39

[Docket No. FAA-2017-1163; Product Identifier 2017-CE-041-AD; Amendment 39-19260; AD 2018-09-04]

RIN 2120-AA64

Airworthiness Directives; Gulfstream Aerospace Corporation Airplanes

AGENCY: Federal Aviation Administration (FAA), DOT.

ACTION: Final rule; correction.

SUMMARY: The FAA is correcting an airworthiness directive (AD) that published in the Federal Register. The AD applies to certain Gulfstream Aerospace Corporation Models G-IV and GIV-X airplanes. Paragraphs (h)(3) through (5) of the AD incorrectly reference Customer Bulletin 238A as Customer Bulletin 283A. This document corrects that error. In all other respects, the original document remains the same; however for the sake of clarity, we are publishing the entire rule in the Federal Register.

DATES: The effective date of AD 2018-09-04 remains June 11, 2018.

The Director of the Federal Register approved the incorporation by reference of certain publications listed in this AD as of June 11, 2018 (83 FR 19922, May 7, 2018).

ADDRESSES: You may examine the AD docket on the internet at http://www.regulations.gov by searching for and locating Docket No. FAA-2017-1163; or in person at the Docket Operations between 9 a.m. and 5 p.m., Monday through Friday, except Federal holidays. The AD docket contains this final rule, the regulatory evaluation, any comments received, and other information. The address for the Docket Operations (phone: 800-647-5527) is U.S. Department of Transportation, Docket Operations, M-30, West Building Ground Floor, Room W12-140, 1200 New Jersey Avenue SE, Washington, DC 20590.

FOR FURTHER INFORMATION CONTACT: William O. Herderich, Aerospace Engineer, Atlanta ACO Branch, FAA, 1701 Columbia Avenue, College Park, Georgia 30337; phone: (404) 474-5547; fax: (404) 474-5605; email: william.o.herderich@faa.gov.

SUPPLEMENTARY INFORMATION: AD 2018-09-04, Amendment 39-19260 (83 FR 19922, May 7, 2018), requires incorporating new revisions into the Instructions for Continued Airworthiness of the Limitations section of the FAA-approved maintenance program (e.g., maintenance manual) that establish an inspection cycle for the repaired main landing gear side brace actuator fittings.

As published, paragraphs (h)(3) through (5) of the AD contain a typographical error. The published references are Customer Bulletin No. 283A, dated June 15, 2017, and they should be Customer Bulletin No. 238A, dated June 15, 2017.

Although no other part of the preamble or regulatory information has been corrected, for the sake of clarity, we are publishing the entire rule in the Federal Register.

The effective date of this AD remains June 11, 2018.

List of Subjects in 14 CFR Part 39

Air transportation, Aircraft, Aviation safety, Incorporation by reference, Safety.

Adoption of the Correction

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2018-09-04 Gulfstream Aerospace Corporation: Amendment 39-19260; Docket No. FAA-2017-1163; Product Identifier 2017-CE-041-AD.

(a) Effective Date

This AD is effective June 11, 2018.

(b) Affected ADs

None.

(c) Applicability

This AD applies to the following Gulfstream Aerospace Corporation model airplanes that are certificated in any category:

(1) Model G-IV, serial numbers (S/Ns) 1000 through 1399 having Aircraft Service Change (ASC) 416A (MSG-3) incorporated; and S/Ns 1400 through 1535; and

(2) Model GIV-X, S/Ns 4001 through 4355.

(d) Subject

Joint Aircraft System Component (JASC)/Air Transport Association (ATA) of America Code 32, Landing Gear.

(e) Unsafe Condition

This AD was prompted by the potential for fatigue cracks in the main landing gear (MLG) actuator attachment fitting that had a certain repair incorporated. We are issuing this AD to prevent failure of the MLG actuator attachment. The unsafe condition, if not addressed, could compromise the lateral support of the MLG during ground maneuvers, possibly leading to collapse of the affected MLG with consequent loss of control. In addition, this condition could also cause the MLG side brace to fail, which could result in a penetration of the wing fuel tank causing an uncontained fire.

(f) Compliance

At whichever of the following compliance times in paragraphs (f)(1) and (f)(2) that occurs later, comply with the actions in paragraphs (g) through (i) of this AD, unless already done.

(1) Within the next 100 hours time-in-service after June 11, 2018 (the effective date of this AD); or

(2) Within the next 3 months after June 11, 2018 (the effective date of this AD).

(g) Inspect Maintenance Records

Inspect the airplane maintenance records to determine if repair SE05732102 for the MLG side brace fitting has been incorporated. To do this inspection, use the Accomplishment Instructions in Gulfstream G350 Customer Bulletin Number 192A; Gulfstream G450 Customer Bulletin 192A; Gulfstream IV Customer Bulletin Number 238A; Gulfstream G300 Customer Bulletin Number 238A; and Gulfstream G400 Customer Bulletin Number 238A; all dated June 15, 2017, as applicable. The service information referenced in this paragraph specifies sending a service reply card back to Gulfstream Aerospace Corporation if repair SE05732102 for the MLG side brace fitting has been not been incorporated. This action is not required in this AD.

(h) Determine Initial and Repetitive Inspection Requirements

If it is determined during the maintenance records inspection required in paragraph (g) that repair SE05732102 for the MLG side brace fitting has been incorporated, determine the initial and repetitive inspection requirements using the Accomplishment Instructions of the service information identified in paragrap (g) along with the following documents, as applicable. Comply with the inspection requirements as determined.

(1) Appendix A, Gulfstream Document GIV-SGER-553, Revision A, Instructions for Continued Airworthiness for Gulfstream Repair Drawing SE05732102, dated December 14, 2016, to Gulfstream G350 Customer Bulletin No. 192A, dated June 15, 2017;

(2) Appendix A, Gulfstream Document GIV-SGER-553, Revision A, Instructions for Continued Airworthiness for Gulfstream Repair Drawing SE05732102, dated December 14, 2016, to Gulfstream G450 Customer Bulletin No. 192A, dated June 15, 2017;

(3) Appendix A, Gulfstream Document GIV-SGER-553, Revision A, Instructions for Continued Airworthiness for Gulfstream Repair Drawing SE05732102, dated December 14, 2016, to Gulfstream IV Customer Bulletin No. 238A, dated June 15, 2017;

(4) Appendix A, Gulfstream Document GIV-SGER-553, Revision A, Instructions for Continued Airworthiness for Gulfstream Repair Drawing SE05732102, dated December 14, 2016, to Gulfstream G300 Customer Bulletin No. 238A, dated June 15, 2017; and

(5) Appendix A, Gulfstream Document GIV-SGER-553, Revision A, Instructions for Continued Airworthiness for Gulfstream Repair Drawing SE05732102, dated December 14, 2016, to Gulfstream G400 Customer Bulletin No. 238A, dated June 15, 2017.

(i) Revise Limitations Section

Insert the documents listed in paragraphs (h)(1) through (5) of this AD into the Instructions for Continued Airworthiness of the Limitations section of the FAA-approved maintenance program (e.g., maintenance manual), as applicable. The revised limitations sections establish inspections of the repaired MLG side brace actuator fittings.

(j) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD.

(2) Before using any approved AMOC, notify your appropriate principal inspector, or lacking a principal inspector, the manager of the local flight standards district office/certificate holding district office.

(3) For service information that contains steps that are labeled as Required for Compliance (RC), the provisions of paragraphs (g) through (i) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

For more information about this AD, contact William O. Herderich, Aerospace Engineer, Atlanta ACO Branch, FAA, 1701 Columbia Avenue, College Park, Georgia 30337; phone: (404) 474-5547; fax: (404) 474-5605; email: william.o.herderich@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Gulfstream G350 Customer Bulletin Number 192A, dated June 15, 2017, that incorporates Appendix A, Gulfstream Document GIV-SGER-553, Revision A, Instructions for Continued Airworthiness for Gulfstream Repair Drawing SE05732102, dated December 14, 2016.

(ii) Gulfstream G450 Customer Bulletin 192A, dated June 15, 2017, that incorporates Appendix A, Gulfstream Document GIV-SGER-553, Revision A, Instructions for Continued Airworthiness for Gulfstream Repair Drawing SE05732102, dated December 14, 2016.

(iii) Gulfstream IV Customer Bulletin Number 238A, dated June 15, 2017, that incorporates Appendix A, Gulfstream Document GIV-SGER-553, Revision A, Instructions for Continued Airworthiness for Gulfstream Repair Drawing SE05732102, dated December 14, 2016.

(iv) Gulfstream G300 Customer Bulletin Number 238A, dated June 15, 2017, that incorporates Appendix A, Gulfstream Document GIV-SGER-553, Revision A, Instructions for Continued Airworthiness for Gulfstream Repair Drawing SE05732102, dated December 14, 2016.

(v) Gulfstream G400 Customer Bulletin Number 238A, dated June 15, 2017, that incorporates Appendix A, Gulfstream Document GIV-SGER-553, Revision A, Instructions for Continued Airworthiness for Gulfstream Repair Drawing SE05732102, dated December 14, 2016.

(3) For Gulfstream Aerospace Corporation service information identified in this AD, contact Gulfstream Aerospace Corporation, P.O. Box 2206, Savannah, Georgia 31402-2206; telephone: (800) 810-4853; fax 912-965-3520; email: pubs@gulfstream.com; internet: http://www.gulfstream.com/product_support/technical_pubs/pubs/index.htm.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 5, 2018.
David R. Showers,
Aircraft Certification Service, Acting Deputy Director, Policy and Innovation Division, AIR-601.

[FR Doc. 2018-12519 Filed 6-8-18; 8:45 am]

BILLING CODE 4910-13-P